DEPARTMENT OF HEALTH AND HUMAN SERVICES

National Institutes of Health

Center for Scientific Review; Amended Notice of Meeting

Notice is hereby given of a change in the meeting of the Biobehavioral Mechanisms of Emotion, Stress and Health Study Section, June 5, 2008, 8 a.m. to June 6, 2008, 5 p.m., The Hotel Lombardy, 2019 Pennsylvania Avenue, NW., Washington, DC 20006, which was published in the Federal Register on April 11, 2008, 73 FR 19855-19857.

The meeting will be held one day only, June 5, 2008, from 8 a.m. to 6 p.m. The meeting location remains the same. The meeting is closed to the public.

Dated: May 27, 2008.
Jennifer Spaeth,
Director, Office of Federal Advisory Committee Policy.

[FR Doc. E8-12278 Filed 6-4-08; 8:45 am]

BILLING CODE 4140-01-M